ENVIRONMENTAL PROTECTION AGENCY

[ER-FRL-8996-9]

Notice of Intent: Designation of an Expanded Ocean Dredged Material Disposal Site (ODMDS) off Fort Lauderdale, FL

AGENCY: U.S. Environmental Protection Agency (EPA) Region 4.

ACTION: Notice of Intent to prepare an Environmental Assessment (EA) for the designation of an expanded ODMDS off Fort Lauderdale, FL.

Purpose: EPA has the authority to designate ODMDSs under Section 102 of the Marine Protection, Research and Sanctuaries Act of 1972 (33 U.S.C 1401 et. seq). It is EPA's policy to prepare a National Environmental Policy Document for all ODMDS designations (63 FR 58045, October 1998).

For Further Information, to Submit Comments, and to Be Placed on the Project Mailing List Contact: Mr. Christopher McArthur, EPA Region 4, 61 Forsyth Street, Atlanta, Georgia 30303, phone 404-562-9391, e-mail: mcarthur.christopher@epa.gov.

SUMMARY: EPA, in cooperation with the U.S. Army Corps of Engineers Jacksonville District (USACE), intends to prepare an EA to designate an expanded ODMDS off shore of Fort Lauderdale, Florida. An EA is needed to provide the environmental information necessary to evaluate the potential environmental impacts associated with expanding the ODMDS.

Need for Action: The USACE has requested that EPA designate an expanded ODMDS, approximately 4 square nautical miles in size, for the disposal of dredged material from the potential construction dredging at Port Everglades Harbor. The need for an expanded ODMDS is based on capacity computer modeling results.

Alternatives: The following proposed alternatives have been tentatively defined:

1. No action.

2. Expansion of the existing Port Everglades Harbor ODMDS.

3. Expand the existing ODMDS to the north and west.

Scoping: EPA is requesting written comments from federal, state, and local governments, industry, non-governmental organizations, and the general public on the range of alternatives considered, specific environmental issues to be evaluated, and the potential impacts of the alternatives. Scoping comments will be accepted for 60 days, beginning with the date of this Notice. A public scoping meeting was held in Fort Lauderdale, Florida on March 31, 2011.

Estimated Date of Draft EA Release: March 2012.

Responsible Official: Gwendolyn Keyes Fleming, Regional Administrator, Region 4.

Dated: May 4, 2011.
Susan E. Bromm,
Director, Office of Federal Activities.

[FR Doc. 2011-11194 Filed 5-6-11; 8:45 am]

BILLING CODE 6560-50-P